DEPARTMENT OF COMMERCE

International Trade Administration

[A-570-928]

Uncovered Innerspring Units From the People's Republic of China: Extension of Final Results of Antidumping Duty New Shipper Review

AGENCY: Import Administration, International Trade Administration, Department of Commerce.

SUMMARY: The Department of Commerce (“Department”) is extending the time limit for the final results of the first new shipper review of uncovered innerspring units (“innersprings”) from the People's Republic of China (“PRC”). The review covers the period of review (“POR”) of February 1, 2010, through July 31, 2010.

DATES: Effective Date: October 24, 2011.

FOR FURTHER INFORMATION CONTACT: Paul Walker, AD/CVD Operations, Office 9, Import Administration, International Trade Administration, U.S. Department of Commerce, 14th Street and Constitution Avenue, NW., Washington, DC 20230; telephone: (202) 482-0413.

Background

On August 4, 2011, the Department published in the Federal Register the Preliminary Results of the new shipper review of innersprings from the PRC.¹ The respondent in this new shipper review is Foshan Nanhai Jiujiang Quan Li Spring Hardware Factory (“Quan Li”). The final results are currently due no later than October 24, 2011.

¹ See Uncovered Innerspring Units From the People's Republic of China: Preliminary Intent To Rescind New Shipper Review, 76 FR 47151 (August 4, 2011) (“Preliminary Results”).

Statutory Time Limits

Section 751(a)(2)(B)(iv) of the Tariff Act of 1930, as amended (the “Act”), and section 351.214(i)(1) of the Department's regulations, require the Department to issue the final results in a new shipper review 90 days after the date on which the preliminary results are issued. The Department may, however, extend the deadline for completion of the final results of a new shipper review to 150 days if it determines that the case is extraordinarily complicated.²

² See section 751(a)(2)(B)(iv) of the Act and 19 CFR 351.214(i)(2).

Extension of Time Limit for Final Results of Review

We determine that this case is extraordinarily complicated because the Department requires additional time to analyze interested parties' case and rebuttal briefs concerning the bona fide nature of the sale under review. Therefore, in accordance with section 751(a)(2)(B)(iv) of the Act, and section 351.214(i)(2) of the Department's regulations, we are extending the time for the completion of the final results of this review until November 22, 2011.

We are issuing and publishing this notice in accordance with sections 751(a)(2)(B) and 777(i)(1) of the Act.

Dated: October 11, 2011.
Christian Marsh,
Deputy Assistant Secretary for Antidumping and Countervailing Duty Operations.

[FR Doc. 2011-27449 Filed 10-21-11; 8:45 am]

BILLING CODE 3510-DS-P